DEPARTMENT OF HOMELAND SECURITY

Coast Guard

33 CFR Part 117

[Docket No. USCG-2008-0478]

Drawbridge Operation Regulations; LaLoutre Bayou, Yscloskey, LA

AGENCY: Coast Guard, DHS.

ACTION: Notice of temporary deviation from regulations; request for comments.

SUMMARY: The Commander, Eighth Coast Guard District, has issued a temporary deviation from the regulation governing the operation of the State Route 46 (LA 46) Bridge across LaLoutre Bayou, mile 22.9, at Yscloskey, St. Bernard Parish, Louisiana. This deviation will test a change to the drawbridge operation schedule to determine whether a permanent change to the schedule is needed. This deviation will allow more efficient use of personnel by requiring a 2 hour notice for night time openings.

DATES: This deviation is effective from 8 p.m. on June 19, 2008 through 4 a.m. on December 16, 2008.

ADDRESSES: You may submit comments identified by Coast Guard docket number USCG-2008-0478 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this test deviation, call Kay Wade, Bridge Administration Branch, telephone 504-671-2128. If you have questions on viewing or submitting material to the docket, call Renee V. Wright, Program Manager, Docket Operations, telephone 202-366-9826.

SUPPLEMENTARY INFORMATION:

Public Participation and Request for Comments

We encourage you to participate in this action by submitting comments and related materials. All comments received will be posted, without change, to http://www.regulations.gov and will include any personal information you have provided. We have an agreement with the Department of Transportation (DOT) to use the Docket Management Facility. Please see DOT's “Privacy Act” paragraph below.

Submitting Comments

If you submit a comment, please include the docket number for this action (USCG-2008-0478), indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed action in view of them.

Viewing Comments and Documents

To view comments, as well as documents mentioned in this preamble as being available in the docket, go to http://www.regulations.gov at any time, click on “Search for Dockets,” and enter the docket number for this action (USCG-2008-0478) in the Docket ID box, and click enter. You may also visit the Docket Management Facility in Room W12-140 on the ground floor of the DOT West Building, 1200 New Jersey Avenue, SE., Washington, DC 20590, between 9 a.m. and 5 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Background and Purpose

The LA 46 vertical lift span bridge, located on LaLoutre Bayou at mile 22.9, in Yscloskey, St. Bernard Parish, Louisiana, has a vertical clearance of 2 feet in the closed position and 53 feet in the open position. The bridge has a horizontal clearance of 45 feet. The draw of the LA 46 Bridge opens on signal as required by 33 CFR 117.5. However, the draw of the bridge has been inoperable since August 2005 due to damage sustained during Hurricane Katrina.

Historically, the waterway at the bridge site has been transited by recreational boaters and fishing vessels. However, there has been no navigational traffic through the bridge site since it was damaged in 2005.

Repairs to the bridge have been completed and the Louisiana Department of Transportation and Development (LDOTD) will soon reopen the bridge to navigation. LDOTD has requested a change to the drawbridge operation schedule in order to make more efficient use of operating resources, while accommodating the flow of vehicular traffic.

This deviation will test the following change to the drawbridge operation schedule: The draw of the LA 46 Bridge, mile 22.9, at Yscloskey, shall open on signal; except that from 8 p.m. to 4 a.m., the draw shall open on signal if at least two hours notice is given.

A Notice of Proposed Rulemaking (USCG-2008-0478) will be issued to propose a permanent change to the schedule and obtain additional public comments. The Coast Guard will evaluate public comments from this Temporary Deviation and the above referenced Notice of Proposed Rulemaking to determine if a permanent special drawbridge operation regulation is warranted. The Coast Guard will review bridge tender logs for requested bridge openings during the time of the Temporary Deviation. Navigation is not expected to be impacted during the test schedule period.

Additional Information

Although this Temporary Deviation will require 2 hours advance notice for openings between 8 p.m. and 4 a.m., an alternate route, via Yscloskey Bayou, to the Mississippi River Gulf Outlet and Lake Borgne is available with no additional transit time. Additionally, most users of this waterway are able to give notice prior to transiting through the bridge. Vessels are not able to pass underneath the bridge when closed due to a vertical clearance of only 2 feet. Before the effective period, we will issue maritime advisories widely available to users of the waterway.

In accordance with 33 CFR 117.35(e), the drawbridge must return to its regular operating schedule immediately at the end of the designated time period. This deviation from the operating regulations is authorized under 33 CFR 117.35.

Dated: June 9, 2008.
David M. Frank,
Bridge Administrator, U.S. Coast Guard.

[FR Doc. E8-13864 Filed 6-18-08; 8:45 am]

BILLING CODE 4910-15-P